DEPARTMENT OF COMMERCE

International Trade Administration

[A-549-822]

Certain Frozen Warmwater Shrimp From Thailand: Rescission of Antidumping Duty Administrative Review; 2013-2014

AGENCY: Enforcement and Compliance, International Trade Administration, Department of Commerce.

SUMMARY: The Department of Commerce (the Department) is rescinding the administrative review of the antidumping duty order on certain frozen warmwater shrimp from Thailand for the period February 1, 2013, through January 31, 2014.

DATES: Effective Date: July 15, 2014.

FOR FURTHER INFORMATION CONTACT: Alice Maldonado or Dennis McClure, Enforcement and Compliance, International Trade Administration, U.S. Department of Commerce, 14th Street and Constitution Avenue NW., Washington, DC 20230; telephone: (202) 482-4682 or (202) 482-5973, respectively.

SUPPLEMENTARY INFORMATION:

Background

On February 3, 2014, the Department published in the Federal Register a notice of “Opportunity to Request Administrative Review” of the antidumping duty order on certain frozen warmwater shrimp (shrimp) from Thailand for the period of February 1, 2013, through January 31, 2014.¹ During the anniversary month of February 2014, the Department received timely requests, in accordance with section 751(a) of the Tariff Act of 1930, as amended (the Act), and 19 CFR 351.213(b), for an administrative review of this antidumping duty order from the Ad Hoc Shrimp Trade Action Committee (the petitioner), the American Shrimp Processors Association (ASPA), and certain individual companies.² On April 2, 2014, the Department published in the Federal Register a notice of initiation listing the 163 companies for which the Department received timely requests for review.³

¹ See Antidumping or Countervailing Duty Order, Finding, or Suspended Investigation; Opportunity to Request Administrative Review, 79 FR 6159 (Feb. 3, 2014).

² See the February 6, 21, 26, 27, and 28, 2014 letters requesting an administrative review from the petitioners, ASPA, and individual Thai shrimp companies.

³ See Certain Frozen Warmwater Shrimp from India and Thailand; Notice of Initiation of Antidumping Duty Administrative Reviews, 79 FR 18510 (Apr. 2, 2014) .

On July 1, 2014, the petitioner, ASPA, and individual Thai shrimp companies withdrew all requests for an administrative review.⁴

⁴ See the July 1, 2014, letters withdrawing requests for administrative reviews from the petitioners, ASPA, Trade Pacific LLC (for several Thai shrimp companies), Good Luck Product Co. Ltd., Good Fortune Cold Storage Co., Ltd., Xian-Ning Seafood Co., Ltd., Charoen Pokphand Foods Public Company Limited, Gallant Ocean (Thailand) Co., Ltd., and Southport Seafood Co., Ltd.

Rescission of Review

Pursuant to 19 CFR 351.213(d)(1), the Department will rescind an administrative review, in whole or in part, if a party that requested a review withdraws the request within 90 days of the date of publication of notice of initiation of the requested review. All parties requesting 2013-2014 administrative reviews of the antidumping duty order of shrimp from Thailand timely withdrew their requests for review by the 90-day deadline. Therefore, we are rescinding the administrative review of the antidumping duty order on certain frozen warmwater shrimp from Thailand covering the period February 1, 2013, through January 31, 2014.

Assessment

The Department will instruct U.S. Customs and Border Protection (CBP) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as the only reminder to importers of their responsibility, under 19 CFR 351.402(f)(2), to file a certificate regarding the reimbursement of antidumping duties prior to liquidation of the relevant entries during this review period. Failure to comply with this requirement may result in the presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751 of the Act and 19 CFR 351.213(d)(4).

Dated: July 9, 2014.
Christian Marsh,
Deputy Assistant Secretary for Antidumping and Countervailing Duty Operations.

[FR Doc. 2014-16591 Filed 7-14-14; 8:45 am]

BILLING CODE 3510-DS-P